DEPARTMENT OF COMMERCE

National Oceanic and Atmospheric Administration

Agency Information Collection Activities; Submission to the Office of Management and Budget (OMB) for Review and Approval; Comment Request; Northwest Region, Pacific Coast Groundfish Fishery: Trawl Rationalization Cost Recovery Program

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on August 22, 2023 during a 60-day comment period. This notice allows for an additional 30 days for public comments.

Agency: National Oceanic & Atmospheric Administration (NOAA), Commerce.

Title: Northwest Region, Pacific Coast Groundfish Fishery: Trawl Rationalization Cost Recovery Program.

OMB Control Number: 0648-0663.

Form Number(s): None.

Type of Request: Regular submission; revision of a current information collection.

Number of Respondents: 580.

Average Hours per Response: Cost recovery fee forms: 1 hour.

Total Annual Burden Hours: 580.

Needs and Uses: This request is for a revision of a currently approved information collection includes the collection of electronic fish ticket numbers on the Shorebased Individual Fishing Quota Program's payment form. The Magnuson-Stevens Fishery Conservation and Management Act (MSA) authorizes and requires that the Secretary of Commerce maintain a cost recovery program to cover part of the management, data collection and analysis, and enforcement costs of the limited access privilege programs, such as the Pacific Coast Groundfish Trawl Rationalization Program (Trawl Program). Cost recovery fees may not exceed three percent of the ex-vessel value. The Trawl Program cost recovery program requires fish sellers to submit fees to fish buyers who then submit those fees to NOAA's National Marine Fisheries Service (NMFS). Fish buyers must also submit information to NMFS on the volume and value of harvested groundfish when submitting the fees. Information is collected from monthly and annual reports as well as non-payment documents when necessary.

The information collected is used to track the payment of cost recovery fees, reconcile cost recovery payments with landings data from other sources, calculate average ex-vessel values, and, if necessary, help in the resolution of non-payment issues. The addition of a requirement to record electronic fish ticket numbers corresponding to cost recovery payments will aid in this reconciliation process.

This program is authorized under the Pacific coast groundfish fishery regulations, trawl rationalization cost recovery program at 50 CFR 660.115.

Affected Public: Business or other for-profit organizations.

Frequency: Monthly and annually.

Respondent's Obligation: Mandatory.

Legal Authority: NMFS and the Pacific Fisheries Management Council (Council) manage the groundfish fisheries in the exclusive economic zone seaward of California, Oregon, and Washington under the Pacific Coast Groundfish Fishery Management Plan (FMP). The Council prepared the FMP under the authority of the MSA, 16 U.S.C. 1801 et seq. Regulations governing United States fisheries and implementing the FMP appear at 50 CFR part 660.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0663.

Sheleen Dumas,
Department PRA Clearance Officer, Office of the Under Secretary for Economic Affairs, Commerce Department.

[FR Doc. 2024-07238 Filed 4-4-24; 8:45 am]

BILLING CODE 3510-22-P